ENVIRONMENTAL PROTECTION AGENCY

[FRL-6972-4]

Agency Information Collection Activities; Proposed Collection; Comment Request; Public Water Systems Supervision Program

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Public Water Systems Supervision Program (PWSSP), EPA ICR No. 0270.40; OMB No. 2040-0090. The current ICR approval expires on 9/30/01. Before submitting the ICR to OMB for review and approval, EPA is soliciting comments on specific aspects of the proposed information collection as described below.

DATES: Comments must be submitted on or before July 2, 2001.

ADDRESSES: People interested in getting information or making comments about the draft PWSSP ICR should direct inquiries or comments to the Office of Ground Water and Drinking Water, Drinking Water Protection Branch, Mail Code 4606, 1200 Pennsylvania Avenue, NW., Washington, DC 20460.

FOR FURTHER INFORMATION CONTACT: Richard Naylor, (202) 260-5135, fax (202) 401-2345, e-mail: naylor.richard@epa.gov.

SUPPLEMENTARY INFORMATION: Affected entities: Entities potentially affected by this action are public water systems, primacy agents including regulators in the States, Puerto Rico, the U.S. Trust Territories; Indian Tribes and Alaska Native Villages, and in some instances, U.S. EPA Regional Administrators and staff.

Title: Information Collection Request for Public Water Systems Supervision Program, OMB Control No. 2040-0090; EPA ICR No. 0270.40; expires 09/30/2001.

Abstract: This ICR contains record keeping and reporting requirements that are mandatory for compliance with 40 CFR parts 141 and 142. Sections 1401 and 1412 of the Safe Drinking Water Act (SDWA), as amended, require EPA to establish National Primary Drinking Water Regulations (NPDWRs) that ensure the safety of drinking water. These regulations, contained in 40 CFR parts 141 and 142, are designed to reduce any exposure to contaminants—microbial, organic and inorganic chemicals, and radionuclides in finished drinking water to safe levels. The Act further requires EPA to ensure compliance with and enforce these regulations. Section 1445 of SDWA stipulates that every supplier of water shall conduct monitoring, maintain records, and provide such information as is needed for the Agency to carry out its compliance and enforcement responsibilities with respect to SDWA. Ensuring implementation of these requirements by public water systems is principally a responsibility of the States, particularly the 49 States that have assumed primary enforcement responsibility (primacy) for public water systems under SDWA section 1413. As part of the Public Water Systems Supervision Program, the Office of Ground Water and Drinking Water's Safe Drinking Water Information System (SDWIS) collects data from the States on public water systems regulated by EPA. Without comprehensive, up-to-date information on drinking water contamination, States and EPA would not be able to ensure “a supply of drinking water which dependably complies with such maximum contaminant levels” (SDWA section 1401 (1) (d)).

An Agency may not conduct or sponsor and a person is not required to respond to, a collection of information if it does not display a currently valid OMB control number. The OMB control numbers for EPA's regulations are listed in 40 CFR part 9 and 48 CFR chapter 15.

The EPA would like to solicit comments to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and, (iv) minimize the burden of the collection of information on those who are to respond, including through the use of appropriate automated electronic, mechanical, or other technological collection techniques or other forms of information technology (e.g., permitting electronic submission of responses).

Burden Statement: The OMB currently approved burden associated with this ICR is: 9,531,172 burden hours per year; and $180,567 burden costs. Since the publication of the ICR for the Public Water Systems Supervision Program in December 1993, EPA has developed rule specific ICRs for each new or revised drinking water rule. Most of the rules addressed in the 1993 PWSSP ICR (e.g., Radionuclides Rule, Public Notification Rule, Lead and Copper Rule, Total Trihalomethanes Rule, Surface Water Treatment Rule and the Unregulated Contaminant Monitoring Rule) have been revised to varying degrees. Accordingly, in the revision of the PWSSP ICR, EPA will ensure that there is no double counting of burden with the individual ICRs for the revised rules.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information. Any recommendations from the drinking water community and the general public on this issue will be given consideration by the Agency.

Dated: April 25, 2001.
Phil Oshida,
Acting Director, Office of Ground Water and Drinking Water.

[FR Doc. 01-10995 Filed 5-1-01; 8:45 am]

BILLING CODE 6560-50-P